DEPARTMENT OF HEALTH AND HUMAN SERVICES

National Institutes of Health

National Institute of Mental Health; Amended Notice of Meeting

Notice is hereby given of a change in the meeting of the Interventions Committee for Adult Disorders, October 08, 2013, 08:30 a.m. to October 09, 2013, 05:00 p.m., Hyatt Regency Bethesda, One Bethesda Metro Center, 7400 Wisconsin Avenue, Bethesda, MD, 20814 which was published in the Federal Register on September 04, 2013, 78 FRN 54477.

Due to the Government shutdown, this meeting will now be held on November 6-7, 2013, as a telephone conference meeting at the Neuroscience Center. The meeting is closed to the public.

Dated: October 22, 2013.
Carolyn A. Baum,
Program Analyst, Office of Federal Advisory Committee Policy.

[FR Doc. 2013-25243 Filed 10-25-13; 8:45 am]

BILLING CODE 4140-01-P